DEPARTMENT OF HEALTH AND HUMAN SERVICES

Centers for Disease Control and Prevention

The Advisory Committee to the Director of the National Center for Environmental Health of the Centers for Disease Control and Prevention: Meeting

In accordance with section 10(a)(2) of the Federal Advisory Committee Act (Pub. L. 92-463), the Centers for Disease Control and Prevention (CDC) announce the following committee meeting.

Name: Advisory Committee to the Director (ACD), National Center for Environmental Health (NCEH).

Time and Dates: 1 p.m.-5:30 p.m., December 1, 2003; 8:30 a.m.-4: 30 p.m., December 2, 2003.

Place: Hilton Atlanta Hotel, 255 Courtland Street, NE., Atlanta, GA 30303.

Status: Open to the public for observation, limited only by the space available. The meeting room accommodates approximately 100 people.

Purpose: The Secretary, and by delegation, the Director of the Centers for Disease Control and Prevention, are authorized under Section 301 (42 U.S.C. 241) and Section 311 (42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work.

Matters to be Discussed: The agenda items for the meeting on December 1-2, 2003, will include but are not limited to an update and discussions on the consolidation of NCEH and the Agency for Toxic Substances and Disease Registry (ATSDR); review of discussions for consolidating the ATSDR Board of Scientific Counselors (BSC) and the ACD, NCEH; discussion on peer review background and process; and an overview of existing ACD and BSC subcommittees and working groups. Agenda items are tentative and subject to change.

FOR FURTHER INFORMATION CONTACT: Individuals interested in attending the meeting, please contact Priscilla Patin, CMP, Program Analyst, CDC, 4770 Buford Highway NE, MS F-29, Atlanta, Georgia 30341-3724; telephone 770-488-7629, fax 770-488-7024; e-mail: ppatin@cdc.gov. The deadline for notification of attendance is November 24, 2003.

The Director, Management Analysis and Services Office, has been delegated the authority to sign Federal Register notices pertaining to announcements of meetings and other committee management activities for both CDC and the Agency for Toxic Substances and Disease Registry.

Dated: November 3, 2003.
Joseph E. Salter,
Acting Director, Management Analysis and Services Office, Centers for Disease Control and Prevention (CDC).

[FR Doc. 03-28028 Filed 11-6-03; 8:45 am]

BILLING CODE 4163-18-P